SECURITIES AND EXCHANGE COMMISSION

[Release No. 34-77405; File No. SR-NYSEArca-2016-08)

Self-Regulatory Organizations; NYSE Arca, Inc.; Notice of Designation of a Longer Period for Commission Action on Proposed Rule Change To Adopt NYSE Arca Equities Rule 8.900 To Permit Listing and Trading of Managed Portfolio Shares and To Permit Listing and Trading of Shares of Fifteen Issues of the Precidian ETFs Trust

March 18, 2016.

On January 27, 2016, NYSE Arca, Inc. (“Exchange”) filed with the Securities and Exchange Commission (“Commission”), pursuant to Section 19(b)(1) of the Securities Exchange Act of 1934 (“Act”) ¹ and Rule 19b-4 thereunder,² a proposed rule change to: (1) Adopt NYSE Arca Equities Rule 8.900 to permit the listing and trading of Managed Portfolio Shares; (2) amend NYSE Arca Equities Rule 7.34 to reference securities described in proposed NYSE Arca Equities Rule 8.900 in Rule 7.34(a)(3)(A) relating to securities traded in the Core Trading Session; and (3) list and trade shares of 15 funds of the Precidian ETFs Trust (“Trust”) pursuant to proposed NYSE Arca Equities Rule 8.900.³ The proposed rule change was published for comment in the Federal Register on February 18, 2016.⁴ On March 9, 2016, the Exchange filed Amendment No. 1 to the proposed rule change.⁵ The Commission has received one comment letter on the proposal.⁶

¹ 15 U.S.C. 78s(b)(1).

² 17 CFR 240.19b-4.

³ The Exchange proposes to list and trade shares of the following funds: (1) Precidian U.S. Managed Volatility Fund; (2) Precidian Strategic Value; (3) Precidian Large Cap Value; (4) Precidian Focused Dividend Strategy; (5) Precidian U.S. Large Cap Growth; (6) Precidian U.S. Core Equity; (7) Precidian U.S. Mid Cap Growth; (8) Precidian Total Return; (9) Precidian High Dividend Yield; (10) Precidian Small Cap Dividend Value; (11) Precidian Multi-factor Small Cap Core; (12) Precidian Multi-factor Small Cap Growth; (13) Precidian Large Cap Core Plus 130/30; (14) Precidian Mid Cap Core Plus 130/30; and (15) Precidian Small Cap Core Plus 130/30.

⁴ See Securities Exchange Act Release No. 77117 (Feb. 11, 2016), 81 FR 8269.

⁵ In Amendment No. 1 to the proposed rule change, the Exchange corrected the citations to the Trust's Form N-1A and Exemptive Application, which were misstated in the proposal. Because Amendment No. 1 is technical in nature and does not materially alter the substance of the proposed rule change or raise any novel regulatory issues, it is not subject to notice and comment. Amendment No. 1 to the proposed rule change is available on the Commission's Web site at: http://www.sec.gov/comments/sr-nysearca-2016-08/nysearca201608-1.pdf.

⁶ See Letter from Gary L. Gastineau, President, ETF Consultants.com, inc., to Brent J. Fields, Secretary, Commission, dated March 10, 2016. This comment letter is available on the Commission's Web site at: http://www.sec.gov/comments/sr-nysearca-2016-08/nysearca201608-2.pdf.

Section 19(b)(2) of the Act ⁷ provides that within 45 days of the publication of notice of the filing of a proposed rule change, or within such longer period up to 90 days as the Commission may designate if it finds such longer period to be appropriate and publishes its reasons for so finding, or as to which the self-regulatory organization consents, the Commission shall either approve the proposed rule change, disapprove the proposed rule change, or institute proceedings to determine whether the proposed rule change should be disapproved. The 45th day after publication of the notice for this proposed rule change is April 3, 2016. The Commission is extending this 45-day time period.

⁷ 15 U.S.C. 78s(b)(2).

The Commission finds it appropriate to designate a longer period within which to take action on the proposed rule change so that it has sufficient time to consider this proposed rule change. Accordingly, the Commission, pursuant to Section 19(b)(2) of the Act,⁸ designates May 18, 2016, as the date by which the Commission shall either approve or disapprove, or institute proceedings to determine whether to disapprove, the proposed rule change (File No. SR-NYSEArca-2016-08).

⁸ Id.

⁹ 17 CFR 200.30-3(a)(31).
For the Commission, by the Division of Trading and Markets, pursuant to delegated authority.⁹
Robert W. Errett,
Deputy Secretary.

[FR Doc. 2016-06606 Filed 3-23-16; 8:45 am]

BILLING CODE 8011-01-P